NATIONAL AERONAUTICS AND SPACE ADMINISTRATION

[Notice 01-113]

U.S. Centennial of Flight Commission

AGENCY: National Aeronautics and Space Administration.

ACTION: Notice of Meeting Location Change.

SUMMARY: In accordance with the Federal Advisory Committee Act, Pub. L. 92-463, as amended, the National Aeronautics and Space Administration announces a change of location for the meeting of the U.S. Centennial of Flight Commission, Notice Number 01-110.

DATES: Thursday, October 4, 2001, 1 pm to 5 pm.

Previously Announced Location: National Aeronautics and Space Administration, Room 9H40, Program Review Center (PRC), 300 E Street, SW, Washington, DC.

Change in the Meeting: The meeting will now be held at the Smithsonian National Air and Space Museum, 7th and Independence Avenue, SW., Director's Conference Room, 3rd Floor, Washington, DC 20560. Attendees must check in at the Information Desk to be cleared to the 3rd floor.

FOR FURTHER INFORMATION CONTACT: Ms. Beverly Farmarco, Code IW, National Aeronautics and Space Administration, Washington, DC 20546, 202/358-1903.

Beth M. McCormick,
Advisory Committee Management Officer, National Aeronautics and Space Administration.

[FR Doc. 01-23977 Filed 9-24-01; 8:45 am]

BILLING CODE 7510-01-P